DEPARTMENT OF VETERANS AFFAIRS

Cooperative Studies Scientific Evaluation Committee; Notice of Meeting

The Department of Veterans Affairs (VA) gives notice under the Federal Advisory Committee Act, 5 U.S.C. ch. 10, that the Cooperative Studies Scientific Evaluation Committee (CSSEC) will hold a meeting on January 18, 2024, via Zoom from 1-4 p.m. EST.

The Committee provides expert advice on VA cooperative studies, multi-site clinical research activities and policies related to conducting and managing these efforts. The session will be open to the public for the first 30 minutes of the meeting (approximately) for the discussion of administrative matters and the general status of the program. The remaining portion of the meeting will be closed to the public for the Committee's review, discussion and evaluation of research and development applications.

During the closed portion of the meeting, the Committee's discussions and recommendations will address the qualifications of the personnel conducting the studies; staff and consultant critiques of research proposals and similar documents; and the medical records of study subjects, the disclosure of which would constitute a clearly unwarranted invasion of personal privacy. Additionally, premature disclosure of research information to the public could significantly obstruct implementation of approved research activities. As provided by Public Law 92-463 subsection 10(d), and amended by Public Law 94-409, closing the Committee meeting is in accordance with 5 U.S.C. 552b(c)(6) and (9)(B).

The Committee will accept oral comments from the public for the open portion of the meeting. Members of the public who wish to attend the open teleconference should call 872-701-0185, conference ID 456 277 285#. Those who plan to attend or would like additional information should contact David Burnaska, Program Manager, Cooperative Studies Program (14RD), Department of Veterans Affairs, 810 Vermont Avenue NW, Washington, DC 20420, at David.Burnaska@va.gov. Those wishing to submit written comments may send them to Mr. Burnaska at the same address and email.

Dated: December 20, 2023.
LaTonya L. Small,
Federal Advisory Committee Management Officer.

[FR Doc. 2023-28377 Filed 12-22-23; 8:45 am]

BILLING CODE P